DEPARTMENT OF ENERGY

Federal Energy Regulatory Commission

[Project No. 2206-030]

Duke Energy Progress, Inc.; Notice of Video Conference To Discuss Yadkin-Pee Dee Hydroelectric Project Biological Opinion

On April 29, 2013, the National Marine Fisheries Service (NMFS) of the National Oceanic and Atmospheric Administration filed its Biological Opinion on the relicensing of the Yadkin-Pee Dee River Hydroelectric Project No. P-2206. The document included NMFS' terms and conditions for protection or federally endangered shortnose sturgeon and Atlantic sturgeon.

On July 1, 2013, from 9 a.m. to 12 p.m. (Eastern Time), NMFS will host a video conference to describe and discuss the terms and conditions in the Biological Opinion. FERC staff will take part in the meeting.

With questions regarding participating in the meeting, please contact Cathy Tortorici of NMFS at cathy.tortorici@noaa.gov or at (727) 209-5953. Please do so by Monday, June 24, 2013. With questions regarding FERC staff's participation in the meeting, please contact Stephen Bowler at stephen.bowler@ferc.gov or at (202) 502-6861.

Dated: June 18, 2013.
Kimberly D. Bose,
Secretary.

[FR Doc. 2013-15072 Filed 6-24-13; 8:45 am]

BILLING CODE 6717-01-P